DEPARTMENT OF ENERGY

Federal Energy Regulatory Commission

Combined Notice of Filings No 1

June 15, 2009.

Take notice that the Commission has received the following Natural Gas Pipeline Rate and Refund Report filings:

Docket Numbers: RP09-614-000.

Applicants: Cheniere Creole Trail Pipeline Company.

Description: Cheniere Creole Trail Pipeline Company Request for Limited Waiver of EDI/EDM and FF/EDM Requirements and Order No. 712 Electronic Capacity Release Requirements.

Filed Date: 05/27/2009.

Accession Number: 20090527-5144.

Comment Date: 5 p.m. Eastern Time on Wednesday, June 17, 2009.

Docket Numbers: RP09-761-000.

Applicants: Natural Gas Pipeline Company of America.

Description: Petition for Temporary Waiver of Tariff Provisions and Request for Expedited Action by Natural Gas Pipeline Company of America LLC.

Filed Date: 06/09/2009.

Accession Number: 20090610-0103.

Comment Date: 5 p.m. Eastern Time on Monday, June 22, 2009.

Docket Numbers: RP09-762-000.

Applicants: El Paso Natural Gas Company.

Description: El Paso Natural Gas Company submits Fourth Revised Sheet 322 et al to FERC Gas Tariff, Second Revised Volume 1A, to be effective 8/1/09.

Filed Date: 06/10/2009.

Accession Number: 20090610-0101.

Comment Date: 5 p.m. Eastern Time on Monday, June 22, 2009.

Docket Numbers: RP09-763-000.

Applicants: Transcontinental Gas Pipe Line Company.

Description: Transcontinental Gas Pipeline Company, LLC submits Second Revised Sheet 21 et al to FERC Gas Tariff, Fourth Revised Volume 1, to be effective 7/12/09 .

Filed Date: 06/11/2009.

Accession Number: 20090612-0013.

Comment Date: 5 p.m. Eastern Time on Tuesday, June 23, 2009.

Docket Numbers: RP09-764-000.

Applicants: WTG Hugoton, LP.

Description: WTG Hugoton, LP submits First revised Sheet 205 et al of its FERC Gas Tariff, to be effective 8/1/09.

Filed Date: 06/12/2009.

Accession Number: 20090615-0031.

Comment Date: 5 p.m. Eastern Time on Wednesday, June 24, 2009.

Docket Numbers: RP09-765-000.

Applicants: Viking Gas Transmission Company.

Description: Viking Gas Transmission Company submits Sixth Revised Sheet 871 to Original Sheet 871.01 and 871.02 to FERC Gas Tariff, First Revised Volume 1, to be effective 6/12/09.

Filed Date: 06/12/2009.

Accession Number: 20090615-0042.

Comment Date: 5 p.m. Eastern Time on Wednesday, June 24, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-15266 Filed 6-26-09; 8:45 am]

BILLING CODE 6717-01-P